DEPARTMENT OF LABOR

Employment and Training Administration

[TA-W-81,575; TA-W-81,575A; TA-W-81,575B; et al.]

Notice of Affirmative Determination Regarding Application for Reconsideration

TA-W-81,575

WIPRO LIMITED, WIPRO TECHNOLOGIES, ALLIANCE MANAGERS, INCLUDING WORKERS WORKING REMOTELY IN NEW JERSEY, EAST BRUNSWICK, NEW JERSEY

TA-W-81,575A

WIPRO LIMITED, WIPRO TECHNOLOGIES, ALLIANCE MANAGERS, INCLUDING WORKERS WORKING REMOTELY IN ILLINOIS, OAKBROOK TERRACE, ILLINOIS

TA-W-81,575B

WIPRO LIMITED, WIPRO TECHNOLOGIES, ALLIANCE MANAGERS, INCLUDING WORKERS WORKING REMOTELY IN CALIFORNIA, MOUNTAIN VIEW, CALIFORNIA

TA-W-81,575C

WIPRO LIMITED, WIPRO TECHNOLOGIES, ALLIANCE MANAGERS, WORKERS WORKING REMOTELY IN GEORGIA, ATLANTA, GEORGIA

TA-W-81,575D

WIPRO LIMITED, WIPRO TECHNOLOGIES, ALLIANCE MANAGERS, WORKERS WORKING REMOTELY IN WASHINGTON, BELLEVUE, WASHINGTON

TA-W-81,575E

WIPRO LIMITED, WIPRO TECHNOLOGIES, ALLIANCE MANAGERS, WORKERS WORKING REMOTELY IN TEXAS, ADDISON, TEXAS

TA-W-81,575F

WIPRO LIMITED, WIPRO TECHNOLOGIES, ALLIANCE MANAGERS, WORKERS WORKING REMOTELY IN MASSACHUSETTS, BOSTON, MASSACHUSETTS

On its own motion, the Department of Labor will conduct an administrative reconsideration of the negative determination regarding workers' eligibility to apply for Trade Adjustment Assistance (TAA) applicable to workers and former workers of Wipro Limited, Wipro Technologies, Alliance Managers, East Brunswick, New Jersey (TA-W-81,575), Oakbrook Terrace, Illinois (TA-W-81,575A), Mountain View, California (TA-W-81,575B), Atlanta, Georgia (TA-W-81,575C), Bellevue, Washington (TA-W-81,575D), Addison, Texas (TA-W-81,575E), and Boston, Massachusetts (TA-W-81,575F) (hereafter collectively referred to as “Wipro”). The Department's Notice of negative determination was published in the Federal Register on July 10, 2012 (77 FR 40642). The workers are engaged in employment related to the supply of sales of alliance related services or products through sales employees of the company.

The negative determination was based on the Department's findings of no imports by Wipro of services like or directly competitive with those supplied by the subject worker group and no shift to a foreign country by Wipro in the supply of such services. A customer survey was not conducted, as the services supplied are for internal purposes only.

The initial investigation also revealed that Wipro is neither a Supplier to, nor acts as a Downstream Producer for, a firm that employed a group of workers who received a certification of eligibility under Section 222(a) of the Act, 19 U.S.C. § 2272(a), and that Wipro has not been publically identified by name by the International Trade Commission as a member of a domestic industry in an investigation resulting in an affirmative finding of serious injury, market disruption, or material injury, or threat thereof.

The Department's review of the administrative record revealed a discrepancy in the locations identified by Wipro and those identified by the Department in the determination.

Conclusion

The Department has carefully reviewed the existing record, and will conduct further investigation to determine if the workers meet the eligibility requirements of the Trade Act of 1974, as amended.

Signed at Washington, DC, this 23rd day of August, 2012.
Del Min Amy Chen,
Certifying Officer, Office of Trade Adjustment Assistance.

[FR Doc. 2012-21871 Filed 9-5-12; 8:45 am]

BILLING CODE 4510-FN-P